DEPARTMENT OF HEALTH AND HUMAN SERVICES

Centers for Disease Control and Prevention

[60Day-06-0128]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Congenital Syphilis (CS) Case Investigation and Report Form (CDC73.126)—OMB No. 0920-0128—Extension—National Center for HIV/AIDS, Viral Hepatitis, STD, and TB Prevention (NCHHSTP), Coordinating Center for Infectious Diseases (CCID), Centers for Disease Control and Prevention (CDC).

Background and Brief Description

CDC proposes to continue data collection for congenital syphilis case investigations under the “Congenital Syphilis (CS) Case Investigation and Report Form” (CDC73.126, REV 11-98); this form is currently approved under OMB No. 0920-0128, and is due to expire on 9/30/2006. This request is for a 3-year extension of OMB approval.

Reducing congenital syphilis is a national objective in the DHHS Report entitled Healthy People 2010 (Vol. I and II). Objective 25-9 of this document states the goal: “Reduce congenital syphilis to 1 new case per 100,000 live births”. In order to meet this national objective, an effective surveillance system for congenital syphilis must be continued to monitor current levels of disease and progress towards the year 2010 objective. This data will also be used to develop intervention strategies and to evaluate ongoing control efforts.

Respondent burden is approximately 15 minutes per reported case. The estimated annual number of cases expected to be reported using the current case definition is 500 or less. Therefore, the total number of hours for congenital syphilis reporting required will be approximately 130 hours per year. There are no costs to the respondents other than their time.

Estimated Annualized Burden Hours
Respondents | Number of respondents | Average number of responses per respondent | Average burden per response (in hours) | Total burden (hours)
Clerical and Hospital staff of state and local health department STD project areas | 65 | 8 | 15/60 | 130
Total |  |  |  | 130

Dated: September 6, 2006.
Joan F. Karr,
Acting Reports Clearance Officer, Centers for Disease Control and Prevention.

[FR Doc. E6-15184 Filed 9-12-06; 8:45 am]

BILLING CODE 4163-18-P